DEPARTMENT OF COMMERCE

Foreign-Trade Zones Board

[Order No. 1528]

Expansion of Foreign-Trade Zone 61; San Juan, PR, Area

Pursuant to its authority under the Foreign-Trade Zones Act of June 18, 1934, as amended (19 U.S.C. 81a-81u), the Foreign-Trade Zones Board (the Board) adopts the following Order:

Whereas, the Puerto Rico Trade and Export Company, grantee of Foreign-Trade Zone 61, submitted an application to the Board for authority to expand Site 1 and to include 11 additional sites in the San Juan, Puerto Rico, area, incorporating temporary sites T-2, T-3 and T-4 on a permanent basis, adjacent to the San Juan Customs and Border Protection port of entry (FTZ Docket 42-2006; filed 11/03/06);

Whereas, notice inviting public comment was given in the Federal Register (71 FR 66499, 11/15/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 61 is approved, subject to the Act and the Board's regulations, including Section 400.28, and further subject to sunset provisions that would terminate authority on October 31, 2012, for proposed Sites 2, 3, 5, 6, 7, and 10 and would terminate authority on October 31, 2014, for proposed Sites 4, 8, and 9, where no activity has occurred under FTZ procedures before those dates.

Signed at Washington, DC, this 28th day of September 2007.
Stephen J. Claeys,
Acting Assistant Secretary of Commerce for Import Administration, Alternate Chairman, Foreign-Trade Zones Board.
Attest:
Andrew McGilvray,
Executive Secretary.

[FR Doc. E7-19654 Filed 10-3-07; 8:45 am]

BILLING CODE 3510-DS-P